ENVIRONMENTAL PROTECTION AGENCY

[EPA-R05-OW-2009-0932; FRL-9148-9; EPA ICR No. 2379.01; OMB Control Number 2005-NEW]

Agency Information Collection Activities; Submission to OMB for Review and Approval; Comment Request; Great Lakes Accountability System

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new information collection. The ICR, which is abstracted below, describes the nature of the information collection and its estimated burden and cost.

DATES: Additional comments may be submitted on or before June 9, 2010.

ADDRESSES: Submit your comments, referencing Docket ID No. EPA-R05-OW-2009-0932, to (1) EPA online using http://www.regulations.gov (our preferred method) or by mail to: Environmental Protection Agency, Great Lakes National Program Office, Attn: Rita Cestaric, 77 W. Jackson Blvd., Chicago, Illinois 60604, and (2) OMB at: Office of Information and Regulatory Affairs, Office of Management and Budget (OMB), Attention: Desk Officer for EPA, 725 17th Street, NW., Washington, DC 20503.

FOR FURTHER INFORMATION CONTACT: Rita Cestaric, USEPA, Great Lakes National Program Office, 77 W. Jackson Boulevard, Chicago, Illinois 60604; telephone number: (312) 886-6815; fax number: (312) 697-2014; e-mail address: cestaric.rita@epa.gov or Marcia Damato, USEPA, Great Lakes National Program Office, 77 West Jackson Boulevard, Chicago, Illinois 60604; telephone number: (312) 886-0266; fax number: (312) 582-5862; e-mail address: damato.marcia@epa.gov.

SUPPLEMENTARY INFORMATION: EPA has submitted the following ICR to OMB for review and approval according to the procedures prescribed in 5 CFR 1320.12. On January 5, 2010 (75 FR 362), EPA sought comments on this ICR pursuant to 5 CFR 1320.8(d) and received one set of comments which is addressed in this ICR. Any additional comments on this ICR should be submitted to EPA and OMB within 30 days of this notice.

EPA has established a public docket for this ICR under docket ID number EPA-R05-OW-2009-0932, which is available for public viewing online at http://www.regulations.gov and in person viewing at the EPA Great Lakes National Program Office, 77 West Jackson Boulevard, Chicago, Illinois 60604. Materials are available for viewing from 8:30 a.m. to 4:30 p.m., Monday through Friday, excluding legal holidays; telephone number (312) 886-6815.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Great Lakes Accountability System.

ICR Numbers: EPA ICR No. 2379.01, OMB Control No. 2005-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: In 2010, EPA, in concert with its Federal partners, will begin implementation of a new Great Lakes Restoration Initiative (GLRI) that was included in the Department of the Interior, Environment, and Related Agencies Appropriations Act, 2010 (Pub. L. 111-88). The GLRI will invest funds in programs and projects strategically chosen to target the most significant environmental problems in the Great Lakes ecosystem.

The legislation calls for increased accountability for the GLRI and directs EPA to implement a process to track, measure, and report on progress. As part of this process, Federal and non-Federal entities receiving GLRI funds will be required to submit detailed information on GLRI projects as part of their funding agreement. Recipients will be required to provide information on the nature of the activity, responsible organization, organizational point of contact, resource levels, geographic location, major milestones and progress toward GLRI goals. The information is necessary to provide an accurate depiction of activities, progress, and results. Information will be updated on a quarterly basis.

A Web-based Great Lakes Accountability System (GLAS) will be the primary mechanism for collecting information on GLRI activities. GLAS will be available at http://restore.glnpo.net:8080/glas/login.htm. The Web-site will contain a user-friendly data entry interface for recipients to enter and submit project information directly into the GLAS. The data entry interface consists of a series of screens containing pull-down menus and text boxes, where users can enter project specific information. The GLAS will provide the necessary information for reports to the President and Congress and will be accessible to the public via Internet.

Burden Statement: The annual public reporting and recordkeeping burden for this collection of information is estimated to average 33 hours per project for State, local and Tribal governments, and 41.1 hours per project for non-governmental organizations. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Great Lakes Restoration Initiative Funding Recipients.

Estimated Number of Respondents: 594 (463 State, local and Tribal governments, 131 non-government organizations).

Frequency of Response: Quarterly.

Estimated Total Annual Hour Burden: 20,663 hours.

Estimated Total Annual Costs: $1,212,164. This includes an estimated annual labor cost of $1,212,164.00 and no capital investment or maintenance and operational costs.

Dated: May 3, 2010.
John Moses,
Director, Collection Strategies Division.

[FR Doc. 2010-10998 Filed 5-7-10; 8:45 am]

BILLING CODE 6560-50-P